DEPARTMENT OF ENERGY

Federal Energy Regulatory Commission

Combined Notice of Filings No. 1

September 3, 2009.

Take notice that the Commission received the following exempt wholesale generator filings:

Docket Numbers: EG09-91-000.

Applicants: Big Sky Wind, LLC.

Description: Self Certification Notice of Big Sky Wind, LLC.

Filed Date: 09/03/2009.

Accession Number: 20090903-5102.

Comment Date: 5 p.m. Eastern Time on Thursday, September 24, 2009.

Take notice that the Commission received the following electric rate filings:

Docket Numbers: ER04-230-044; ER01-1385-038; ER01-3155-029; EL01-45-037.

Applicants: Consolidated Edison Company of New York; New York Independent System Operator, Inc.

Description: NYISO filing of its 18th quarterly report re: efficient utilization of combined cycle units and efforts to accommodate batch loads and flywheel energy storage technologies in its ancillary services markets.

Filed Date: 05/28/2009.

Accession Number: 20090528-5020.

Comment Date: 5 p.m. Eastern Time on Tuesday, September 22, 2009.

Docket Numbers: ER09-412-006.

Applicants: PJM Interconnection L.L.C.

Description: PJM Interconnection L.L.C. submits substitute revisions to the PJM Open Access Transmission Tariff, FERC Electric Tariff Sixth Revised Volume No. 1, effective 11/1/09.

Filed Date: 09/01/2009.

Accession Number: 20090902-0126.

Comment Date: 5 p.m. Eastern Time on Tuesday, September 22, 2009.

Docket Numbers: ER09-1522-001.

Applicants: Torofino Trading LLC.

Description: Torofino Trading LLC submits amended petition for acceptance of initial tariff, waivers and blanket authority FERC Electric Tariff, Original Volume 1.

Filed Date: 09/02/2009.

Accession Number: 20090902-0125.

Comment Date: 5 p.m. Eastern Time on Wednesday, September 23, 2009.

Docket Numbers: ER09-1645-000.

Applicants: Devonshire Energy LLC.

Description: Devonshire Energy LLC submits an application for authorization to make wholesale sales of energy, capacity and ancillary services at negotiated, market-based rates.

Filed Date: 09/01/2009.

Accession Number: 20090902-0152.

Comment Date: 5 p.m. Eastern Time on Tuesday, September 22, 2009.

Docket Numbers: ER09-1656-000.

Applicants: Ashtabula Wind II, LLC.

Description: Ashtabula Wind II, LLC submits authorization to make market-based sales of energy capacity and certain ancillary services under a market-based rate tariff.

Filed Date: 09/01/2009.

Accession Number: 20090902-0153.

Comment Date: 5 p.m. Eastern Time on Tuesday, September 22, 2009.

Docket Numbers: ER09-1668-000.

Applicants: MidAmerican Energy Company.

Description: MidAmerican Energy Company submits notice of cancellation of Transmission Service Agreement with Corn Belt Power Cooperative etc.

Filed Date: 09/01/2009.

Accession Number: 20090902-0127.

Comment Date: 5 p.m. Eastern Time on Tuesday, September 22, 2009.

Docket Numbers: ER09-1669-000; ER09-1670-000.

Applicants: Kansas City Power & Light Company, enXco Development Corporation.

Description: Kansas City Power & Light Company et al. submits an executed Spearville Interconnection Facilities Joint Ownership Agreement with enXco Development Corp.

Filed Date: 09/01/2009.

Accession Number: 20090902-0128.

Comment Date: 5 p.m. Eastern Time on Tuesday, September 22, 2009.

Docket Numbers: ER09-1671-000.

Applicants: Xcel Energy Services, Inc.

Description: Xcel Energy Services, Inc. submits notice of termination of various service agreements under Public Service Company of Colorado FERC Electric Tariff, First Revised Volume 6 etc.

Filed Date: 09/01/2009.

Accession Number: 20090902-0129.

Comment Date: 5 p.m. Eastern Time on Tuesday, September 22, 2009.

Docket Numbers: ER09-1672-000.

Applicants: Pacific Gas and Electric Company.

Description: Pacific Gas and Electric Companys submits notice of termination of PG&E's Rate Schedule FERC No. 178 et al.

Filed Date: 09/01/2009.

Accession Number: 20090902-0130.

Comment Date: 5 p.m. Eastern Time on Tuesday, September 22, 2009.

Docket Numbers: ER09-1673-000.

Applicants: PJM Interconnection, L.L.C.

Description: PJM Interconnection L.L.C. submits revisions to the PJM Open Access Transmission Tariff and Reliability Assurance Agreement.

Filed Date: 09/01/2009.

Accession Number: 20090902-0131.

Comment Date: 5 p.m. Eastern Time on Tuesday, September 22, 2009.

Take notice that the Commission received the following electric securities filings:

Docket Numbers: ES08-46-001.

Applicants: Consumers Energy Company.

Description: Amendment of Original Application and Request for Waiver of Competitive Bid/Negotiated Placement Requirements of Consumers Energy Company.

Filed Date: 09/03/2009.

Accession Number: 20090903-5036.

Comment Date: 5 p.m. Eastern Time on Thursday, September 24, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E9-21872 Filed 9-10-09; 8:45 am]

BILLING CODE 6717-01-P